DEPARTMENT OF COMMERCE

United States Patent and Trademark Office

Post Patent Public Submissions

ACTION: Proposed collection; comment request.

SUMMARY: The United States Patent and Trademark Office (USPTO), as required by the Paperwork Reduction Act of 1995, invites comments on a proposed extension of an existing information collection; 0651-0067: Post Patent Public Submissions.

DATES: Written comments must be submitted on or before August 17, 2018.

ADDRESSES: You may submit comments by any of the following methods:

• Email: InformationCollection@uspto.gov. Include “0651-0067 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Raul Tamayo, Senior Legal Advisor, Office of Patent Legal Administration, United States Patent and Trademark Office, P.O. Box 1450, Alexandria, VA 22313-1450; by telephone at 571-272-7728; or by email to Raul.Tamayo@uspto.gov with “0651-0067 comments” in the subject line. Additional information about this collection is also available at http://www.reginfo.gov under “Information Collection Review.”

SUPPLEMENTARY INFORMATION:

I. Abstract

The United States Patent and Trademark Office (USPTO) is required by 35 U.S.C. 131 to examine an application for patent and, when appropriate, issue a patent. The provisions of 35 U.S.C. 301 and 37 CFR 1.501 govern the ability of a person to submit into the file of an issued patent (1) prior art consisting of patents or printed publications which the person making the submission believes to have a bearing on the patentability of any claim of the issued patent and (2) statements of the owner of the issued patent filed in a proceeding before a Federal court or the USPTO in which the owner of the issued patent took a position on the scope of any claim of the issued patent.

The public may use this information collection to aid in ascertaining the patentability and/or scope of the claims of the issued patent. The USPTO may use this information during subsequent reissue or reexamination proceedings. The USPTO's use of the statements of the patent owners ((2) above) will be limited to determining the meaning of a patent claim in ex parte reexamination proceedings that already have been ordered and in inter partes review and post grant review proceedings that already have been instituted.

II. Method of Collection

Electronically via the USPTO's electronic filing system (EFS-Web). By facsimile, mail or hand delivery, if the submitter chooses to submit the information in paper form.

III. Data

OMB Number: 0651-0067.

IC Instruments and Forms: PTO/SB/42.

Type of Review: Extension of a Currently Existing Collection.

Affected Public: Individuals or households; businesses or other for-profits; and not-for-profit institutions.

Estimated Number of Respondents: 100 response per year.

Estimated Time per Response: The USPTO estimates that it will take the public 10 hours to respond to the items in this collection. This includes the time to gather the necessary information, create the document, and submit the completed request to the USPTO.

Estimated Total Annual Respondent Burden Hours: 1,000 hours.

Estimated Total Annual Respondent (Hour) Cost Burden: $438,000. The USPTO expects that attorneys will completed the instruments associated with this information collection. The professional hourly rate for intellectual property attorneys in private firms is $438. Using this hourly rate, the USPTO estimates that the total respondent cost burden for this collection is $438,000 per year.

IC No. | Item | Time for response (hours) | Responses | Annual burden | Rate | Hourly cost
|  | (a) | (b) | (c) (a) × (b) | (d) | (e) (c) × (d)
1 | Electronic Information Disclosure Citation in a Patent | 10 | 98 | 980 | $438.00 | $429,240.00
1 | Information Disclosure Citation in a Patent | 10 | 2 | 20 | 438.00 | 8,760.00
Total |  |  | 100 | 1,000 |  | 438,000.00

Estimated Total Annual (Non-hour) Respondent Cost Burden: $11.50. There are no capital startup, maintenance or operating costs, or filing fees associated with this information collection.

There are postage costs associated with this information collection. Customers may incur postage costs when submitting the information in this collection to the USPTO by mail. The USPTO expects that approximately 98 percent of the responses in this collection will be submitted electronically via the USPTO's electronic filing system (EFS-Web). The USPTO is estimating that all of the submissions in this collection that are not submitted electronically will be submitted by mail, for a total of 2 mailed submissions. The average first clast postage cost for a one-pound mailed submission in a flat rate envelope will be $5.75, and the USPTO is estimating that none of the mailed submissions will exceed one pound. Therefore, the USPTO estimates that the postage costs for the mailed submissions in this collection will be $11.50.

IV. Request for Comments

Comments submitted in response to this notice will be summarized or included in the request for OMB approval of this information collection. They will also become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO United States Patent and Trademark Office.

[FR Doc. 2018-13023 Filed 6-15-18; 8:45 am]

BILLING CODE 3510-16-P